DEPARTMENT OF COMMERCE

National Oceanic and Atmospheric Administration

Proposed Information Collection; Comment Request; Alaska Region Arbitration

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 5, 2007.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instruments and instructions should be directed to Patsy A. Bearden, 907-586-7008 or patsy.bearden@noaa.gov.

SUPPLEMENTARY INFORMATION:

I. Abstract

Under the authority of the Magnuson-Stevens Fishery Conservation and Management Act, National Marine Fisheries Service (NMFS), Alaska Region manages the crab fisheries in the waters off the coast of Alaska through the Crab Rationalization (CR) Program. The CR Program reallocates Bering Sea and Aleutian Islands (BSAI) crab resources among harvesters, processors, and coastal communities. The Program Arbitration System is designed to accommodate the varied interests of the parties involved as well as reflect the historical negotiations between harvesters and processors. The Arbitration System identifies the general structure of the system and the general principles that guide oversight and management. It also identifies the (1) roles and fundamental standards for the Market Analyst in developing and producing a preseason Market Report for each fishery: (2) Formula Arbitrator in developing a single annual fleet-wide pricing formula (non-binding price formula); (3) Contract Arbitrators in making decisions; and (4) last best offer binding arbitration method as the arbitration procedure for participants.

II. Method of Collection

Paper format submitted by mail or hand delivery.

III. Data

OMB Number: 0648-0516.

Form Number: None.

Type of Review: Regular submission.

Affected Public: Business or other for-profit organizations.

Estimated Number of Respondents: 49.

Estimated Time Per Response: 40 hours to complete and submit a Market Report; 4 hours to complete and submit an Arbitration Organization Report; 1 hour to complete and submit Arbitration Organization Miscellaneous Reporting; 40 hours to complete and submit Non-binding Price Formula Report; and 45 minutes to complete and submit an Established Price for Arbitration Negotiations.

Estimated Total Annual Burden Hours: 742.

Estimated Total Annual Cost to Public: $ 5,372.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 30, 2007.
Gwellnar Banks,
Management Analyst, Office of the Chief Information Officer.

[FR Doc. E7-17531 Filed 9-4-07; 8:45 am]

BILLING CODE 3510-22-P